DEPARTMENT OF THE INTERIOR

Bureau of Land Management

[NV-025-1232-EA; Special Recreation Permit # NV-023-02-25]

Notice of Temporary Closure of Public Lands: Pershing, Washoe & Humboldt Counties, NV

AGENCY: Bureau of Land Management, Winnemucca Field Office, Nevada, Interior.

ACTION: Notice to the public of temporary closures on public lands administered by the Bureau of Land Management, Winnemucca Field Office, Nevada.

SUMMARY: Notice is hereby given that certain lands will be temporarily closed to public use in and around the Civilian Space Exploration Team (CSXT) rocket launch site, located in Pershing, Washoe and Humboldt counties, Nevada, from 0700 to 0930 hours, September 17th-September 20th inclusive, and September 23rd, 2002. These closures are made in the interest of public safety at and around the location of an amateur high-altitude rocket launch site. This event is expected to attract approximately 50 participants. The lands involved are located northeast of Gerlach, Nevada in the Mount Diablo Meridian.

The following Public Lands are closed to public use: Public land areas north of the Union Pacific Railroad tracks, and east of State Highway 34 and County Road 200, and west of the Pahute Peak and Black Rock Desert wilderness boundaries within the following legally described areas are included in the closure:

T33.5N, R24E sec. 25-28, 32-36; T33N R24E secs., 1-5, 8-22, 23, 27-30; T33N, R25E sec. 2,3,4,9; T34N, R24E sec. 1-3, 10-15, 21-27, 34-36; T34N, R25E sec.1-4, 9-16, 21-28, 33-36; T34N, R26E sec. 1-24, 28-33; T34N, R27E sec. 1-18; T35.5N, R25E sec. 27-34; T35.5N, R26E sec. 25-36; T35N, R24E sec. 6,13, 22-27, 34-36; T35N, R25E sec. 1-4,9-16, 21-28, 33-36; All of T35N, R26E; All of T35N R27E; T36N R23.5E sec. 1; T36N, R24E sec. 5, 6, 8, 17, 30; T36N, R25E sec. 1-5, 8-18, 21-36; All of T36N, R26E; T36N, R27E sec. 4-9, 16-21, 28-33; T37N, R23.5E sec. 36; T37N, R24E sec. 11, 14, 23, 24, 30; T37N, R25E sec. 7, 22-27, 34-36; T37N, R26E sec. 19-36; T37N, R27E sec. 19-21, 28-33; T38N, R23E sec. 22.

To ensure public safety these lands will be closed to public use from 0700 to 0930 hours during the CSXT permit period, with the exception of BLM personnel, law enforcement, emergency medical services, and CSXT staff as designated by the BLM authorized officer. A map showing these temporary closures, restrictions and prohibitions is available from the following BLM office: BLM-Winnemucca Field Office, 5100 East Winnemucca Blvd., Winnemucca, Nevada 89445-2921.

The map may also be viewed on the Winnemucca Field Office Web site at: www.nv.blm.gov/winnemucca.

DATES: Closure to public use from 0700 to 0930 hours, September 17th-20th inclusive and September 23rd, 2002.

FOR FURTHER INFORMATION CONTACT: Dave Lefevre, National Conservation Area Outdoor Recreation Planner, Bureau of Land Management, Winnemucca Field Office, 5100 East Winnemucca Boulevard, Winnemucca, NV 89445, telephone: (775) 623-1770.

Authority: 43 CFR 8364.1.

Penalty: Any person failing to comply with the closure orders may be subject to imprisonment for not more than 12 months, or a fine in accordance with the applicable provisions of 18 U.S.C. 3571, or both.

Terry A. Reed,
Field Manager.

[FR Doc. 02-23046 Filed 9-10-02; 8:45 am]

BILLING CODE 4310-HC-P